DEPARTMENT OF THE INTERIOR

Fish and Wildlife Service

Extension of Approved Information Collection, OMB Numbers 1018-0022 and 1018-0099, on Permit Applications and Reports

AGENCY: Fish and Wildlife Service, Interior.

ACTION: Notice, request for comments.

SUMMARY: The U.S. Fish and Wildlife Service is announcing its intention to request renewal of its existing approval to collect certain information from applicants who wish to obtain a permit to conduct activities under a number of wildlife conservation laws, treaties, and regulations. We will submit the collection of information listed below to the Office of Management and Budget (OMB) for approval under the provisions of the Paperwork Reduction Act of 1995. If you wish to obtain copies of the proposed information collection requirement, related forms, and explanatory material, contact the Collection Clearance Officer at the address listed below.

DATES: You must submit comments on or before November 6, 2000.

ADDRESSES: Send your comments and suggestions on specific requirements to the Collection Clearance Officer, U.S. Fish and Wildlife Service, MS 222-ARLSQ, 4401 North Fairfax Drive, Arlington, VA 22203.

FOR FURTHER INFORMATION CONTACT: To request a copy of the information collection request, explanatory information and related forms, contact Rebecca A. Mullin, Collection Clearance Officer, at 703/358-2287, or electronically to rmullin@fws.gov.

SUPPLEMENTARY INFORMATION: OMB regulations at 5 CFR 1320, which implement provisions of the Paperwork Reduction Act of 1995 (Pub. L. 104-13), require that interested members of the public and affected agencies have an opportunity to comment on information collection and recordkeeping activities (see 5 CFR 1320.8(d)). We plan to submit a request to OMB to renew its approval of the collection of information for the Service's license/permit application forms 3-200-6 through 3-200-18. We also plan to request renewed approval for permit reporting form 3-202-a, 3-202-c, 3-430-b, 3-430-d. We are also requesting approval for a new form 3-200-57 for special Canada goose permits, for which the collection of information was assigned OMB approval number 1018-0099. Also, we are requesting approval for three new report forms, 3-202-e, 3-202-g, and 3-430-f. These new report forms do not represent new information collections. Rather, we have tailored existing report forms that covered several permit types so that the report form is specifically directed to the specific permit activity. This will make each report form easier to understand and complete. We are requesting approval for a streamlined application form that is specific to renewing permits due to expire. This does not represent a new information collection—merely a specific form to facilitate renewal requests. Finally, we are requesting approval for two new application forms, 3-200-59 and 3-200-60, which will assist individuals and entities in obtaining permits under the Convention on International Trade in Endangered Species and the Bald and Golden Eagle Protection Act to temporarily transport eagle parts into and out of the United States, as authorized by a recent amendment of 50 CFR 22.21 and 22.22 (September 17, 1999; 64 FR 50467). We are requesting a 3-year term of approval for this information collection activity.

We invite comments concerning this renewal on: (1) Whether the collection of information is necessary for the proper performance of the functions of the agency, including whether the information will have practical utility; (2) the accuracy of the agency's estimate of burden, (3) ways to enhance the quality, utility and clarity of the information to be collected; and (4) ways to minimize the burden of the collection of information on those who are to respond. The information collections in this program are part of a system of records covered by the Privacy Act 95 U.S.C. 552(a)).

The information on the applications and report forms will be used by the Service to review permit applications, monitor permit compliance, and track species taken from the wild. It will allow the Service to make an assessment according to criteria established in various Federal wildlife conservation laws, treaties, and regulations on the issuance, suspension, revocation, or denial of permits.

Federal agencies may not conduct or sponsor, and a person is not required to respond to, a collection of information unless it displays a currently valid OMB control number. The OMB control numbers for this collection of information are 1018-0022 and 1018-0099.

The information collection requirements in this submission implement the regulatory requirements of the Endangered Species Act (16 U.S.C. 1539), the Migratory Bird Treaty Act (16 U.S.C. 704), the Lacey Act (18 U.S.C. 42-I0744), the Bald and Golden Eagle Protection Act (16 U.S.C. 668), the Convention on International Trade in Endangered Species of Wild Fauna and Flora (CITES) (27 UST 108), and are contained in Service regulations in Chapter I, Subchapter B of Title 50 Code of Federal Regulations (CFR). Common permit application and recordkeeping requirements have been consolidated in 50 CFR 13. Unique requirements of the various statutes in the applicable part are described in the table.

Activity and Application and Report Form No. | Total number of respondents (annually) (new) | Estimated completion time (hr) | Total annual burden hours | Regulatory authority
Import/Export, 3-200-6 | 61 | 1.0 | 61 | 50 CFR 21.2, 21.11, 21.21
Scientific Collecting, 3-200-7 | 91 | 4.0 | 364 | 50 CFR 21.2, 21.11, 21.23
Annual Report, 3-430 d* | 484 | 1.0 | 484
Taxidermy, 3-200-8 | 604 | 1.0 | 604 | 50 CFR 21.2, 21.11, 21.24
Waterfowl Sale & Disposal, 3-200-9 | 98 | 1 | 49 | 50 CFR 21.2, 21.11, 21.25
Notice of Transfer, 3-186* | 8,000 | ¹ 0.17 | 1,334
Annual Report, 3-202 c* | 1,540 | 1 | 1,540
Canada Goose, 3-200-57 | 3 | 8.0 | 24 | 50 CFR 21.2, 21.11, 21.26
Special Purpose Permits:
—Salvage, 3-200-10a | 184 | 1 | 184 | 50 CFR 21.2, 21.11, 21.27
Annual Report-Salvage, 3-430 f* | 1,772 | ³ 0.5 | 886
—Rehabilitation, 3-200-10b | 129 | 2.5 | 322.5
Annual Report-Rehab., 3-202a | 2,134 | 1.0 | 2,134
—Education Possession/Live, 3-200-10c | 86 | 2.5 | 215
Annual Report-Edu-Poss/Live, 3-430 b* | 571 | 1.0 | 571
—Education Possession/Dead, 3-200-10d | 56 | 2 | 112
Ann. Report-Edu-Poss/Dead, 3-430 b* | 167 | 1.0 | 167
—Game Bird Propagation, 3-200-10e | 18 | 1.0 | 18
Notice of Transfer, 3-186* | 300 | ¹ 0.17 | 50
Ann. Report Game Bird Prop., 3-202 c* | 73 | ⁴ 0.75 | 54.75
Falconry, 3-200-11 | 283 | ³ 0.5 | 141 | 50 CFR 21.2, 21.11, 21.28
Disposition Report, 3-186 A* | 11,000 | ¹ 0.17 | 1,833
Raptor Propagation, 3-200-12 | 40 | 1.5 | 72 | 50 CFR 21.2, 21.11, 21.30
Disposition Report, 3-186 A* | 5,000 | ¹ 0.17 | 833
Annual Report—Raptor Prop., 3-202 e | 345 | 1.0 | 345
Depredation, 3-200-13 | 788 | 1.0 | 1,182 | 50 CFR 21.2, 21.11, 21.41
Annual Report—Depredation, 3-202 g* | 2,148 | 1.0 | 2,148
Bald & Golden Eagle:
—Exhibition, 3-200-14a | 31 | 2.5 | 77.5 | 50 CFR 22.1, 22.2, 22.12, 22.21
Annual Report—Education, 3-430 b* | 300 | 1.0 | 300
—Scientific Collecting/Research, 3-200-14b | 2 | 4.0 | 8
Ann. Report—Sci. Collecting, 3-430 d* | 8 | ³ 0.5 | 4
Eagle—Native American:
Religious:
—Initial Acquisition/Additional Material, 3-200-15a | 1,083 | ³ 0.5 | 541.5 | 50 CFR 22.1, 22.2, 22.12, 22.22
Take of Depredating Eagles, 3-200-16 | 3 | 1.5 | 4.5 | 50 CFR 22.1, 22.2, 22.12, 22.23
Annual Report Depredation, 3-202 g* | 8 | ² 0.25 | 2
Eagle Falconry, 3-200-17 | 2 | 1.0 | 2 | 50 CFR 22.1, 22.2, 22.12, 22.24
Take of Golden Eagle Nests, 3-200-18 | 2 | 4.0 | 8 | 50 CFR 22.1, 22.2, 22.12, 22.25
Renewal of a Permit, 3-200-58 | 7,444 | ² 0.25 | 1,861 | 50 CFR 13.21, 13.22
CITES Import/Export/Eagle Transport for Exhibition/Scientific Research, 3-200-59 | 50 | 1.0 | 50 | 50 CFR 22.21, 23.11, 23.12, 23.13, 23.15.
CITES Import/Export/Eagle Transport for Indian Religious Purposes, 3-200-60 | 250 | ⁴ .75 | 187 | 50 CFR 22.22, 23.11, 23.12, 23.13, 23.15
* Means report form used for more than one permit activity.
¹ Rounded to 10 minutes.
² Rounded to 15 minutes.
³ Rounded to 30 minutes.
⁴ Rounded to 45 minutes.

Approval Numbers: 1018-0022, 1018-0099.

Service Form Numbers: 3-200-6 through 3-200-18, 3-200-57 through 3-200-60, 3-202a, 3-202c, 3-202e, 3-202g, 3-430b, 3-430d, 3-430f.

Frequency of Collection: On Occasion.

Description of Respondents: Individuals, zoological parks, museums, universities, scientists, taxidermists, local, state, Tribal and Federal governments.

Total Annual Burden hours: 18,773.75.

Total Annual Responses: 45,158.

Dated: August 30, 2000.
Rebecca Mullin,
Service Information Collection Officer.

[FR Doc. 00-22723 Filed 9-5-00; 8:45 am]

BILLING CODE 4310-55-P